DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the Cities of San Rafael and Larkspur, CA, and Moline, IL. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before November 27, 2015.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Sonoma-Marin Area Rail Transit Downtown San Rafael to Larkspur Extension, Cities of San Rafael and Larkspur, CA. Project sponsor: Sonoma-Marin Area Rail Transit (SMART). Project description: The proposed project would extend a planned 43-mile initial operating segment of passenger rail service by 2.1 miles from downtown San Rafael to the City of Larkspur ferry terminal. Railway improvements include trackwork, trestle rehabilitation or replacement, the partial realignment of West Francisco Boulevard, at-grade crossing improvements, and construction of a passenger rail station in Larkspur. No acquisition of additional right-of-way would be required. Final agency actions: Finding that the project is exempt from Section 4(f) evaluation; Section 106 finding of no historic properties affected; project-level air quality conformity; and Finding of No Significant Impact, dated May 20, 2015. Supporting documentation: Environmental Assessment, dated December 2014, and Addendum to the EA, dated May 2015.

2. Project name and location: MetroLINK Ferryboat Terminal, Moline, IL. Project sponsor: Rock Island County Metropolitan Mass Transit District (MetroLINK). Project description: MetroLINK is proposing the construction of a new ferryboat terminal in the 3000 block of River Drive in Moline. The project would include maintenance and storage functions for ferryboat operations, a new dock, and a pedestrian bridge. All work would occur within the City of Moline's owned property. Final agency actions: Section 4(f) de minimis impact determination; Section 106 finding of no historic properties affected; and determination of documented categorical exclusion. Supporting documentation: Documented categorical exclusion pursuant to 23 CFR 771.118(d), dated June 8, 2015.

Issued on: June 19, 2015.
Lucy Garliauskas,
Associate Administrator Planning and Environment.

[FR Doc. 2015-15855 Filed 6-26-15; 8:45 am]

BILLING CODE P